Proclamation 9997 of March 14, 2020

National Day of Prayer for All Americans Affected by the Coronavirus Pandemic and for Our National Response Efforts

By the President of the United States of America

A Proclamation

In our times of greatest need, Americans have always turned to prayer to help guide us through trials and periods of uncertainty. As we continue to face the unique challenges posed by the coronavirus pandemic, millions of Americans are unable to gather in their churches, temples, synagogues, mosques, and other houses of worship. But in this time we must not cease asking God for added wisdom, comfort, and strength, and we must especially pray for those who have suffered harm or who have lost loved ones. I ask you to join me in a day of prayer for all people who have been affected by the coronavirus pandemic and to pray for God's healing hand to be placed on the people of our Nation.

As your President, I ask you to pray for the health and well-being of your fellow Americans and to remember that no problem is too big for God to handle. We should all take to heart the holy words found in 1 Peter 5:7: “Casting all your care upon him, for he careth for you.” Let us pray that all those affected by the virus will feel the presence of our Lord's protection and love during this time. With God's help, we will overcome this threat.

On Friday, I declared a national emergency and took other bold actions to help deploy the full power of the Federal Government to assist with efforts to combat the coronavirus pandemic. I now encourage all Americans to pray for those on the front lines of the response, especially our Nation's outstanding medical professionals and public health officials who are working tirelessly to protect all of us from the coronavirus and treat patients who are infected; all of our courageous first responders, National Guard, and dedicated individuals who are working to ensure the health and safety of our communities; and our Federal, State, and local leaders. We are confident that He will provide them with the wisdom they need to make difficult decisions and take decisive actions to protect Americans all across the country. As we come to our Father in prayer, we remember the words found in Psalm 91: “He is my refuge and my fortress: my God; in him will I trust.”

As we unite in prayer, we are reminded that there is no burden too heavy for God to lift or for this country to bear with His help. Luke 1:37 promises that “For with God nothing shall be impossible,” and those words are just as true today as they have ever been. As one Nation under God, we are greater than the hardships we face, and through prayer and acts of compassion and love, we will rise to this challenge and emerge stronger and more united than ever before. May God bless each of you, and may God bless the United States of America.

NOW, THEREFORE, I, DONALD J. TRUMP, President of the United States of America, do hereby proclaim March 15, 2020, as a National Day of Prayer for All Americans Affected by the Coronavirus Pandemic and for our National Response Efforts. I urge Americans of all faiths and religious traditions and backgrounds to offer prayers for all those affected, including people who have suffered harm or lost loved ones.

IN WITNESS WHEREOF, I have hereunto set my hand this fourteenth day of March, in the year of our Lord two thousand twenty, and of the Independence of the United States of America the two hundred and forty-fourth.

[FR Doc. 2020-05798

Filed 3-17-20; 8:45 am]

Billing code 3295-F0-P